NATIONAL SCIENCE FOUNDATION

Advisory Committee for Engineering; Notice of Meeting; Correction

This document corrects a notice that was published in the Federal Register on April 24, 2013 on page 24239. The subject heading of the document should read as follows:

Advisory Committee for Computer and Information Science and Engineering, #1115; Notice of Meeting

All other information in the April 24, 2013 notice remains the same.

Dated: April 25, 2013.
Susanne Bolton,
Committee Management Officer.

[FR Doc. 2013-10197 Filed 4-30-13; 8:45 am]

BILLING CODE 7555-01-P